ENVIRONMENTAL PROTECTION AGENCY

[FRL-9910-26-OW]

Clean Water Act; Contractor Access to Confidential Business Information

AGENCY: Environmental Protection Agency (EPA).

ACTION: Notice of Intended Transfer of Confidential Business Information to Subcontractor.

SUMMARY: The Environmental Protection Agency (EPA) intends to transfer confidential business information (CBI) collected from numerous industries to NEK Associates (NEK), a newly retained subcontractor of Eastern Research Group (ERG). Transfer of the information will allow the contractor and subcontractor to support EPA in the planning, development, and review of effluent limitations guidelines and standards under the Clean Water Act (CWA). Interested persons may submit comments on this intended transfer of information to the address noted below.

DATES: Comments on the transfer of data are due May 20, 2014.

ADDRESSES: Comments may be sent to Mr. M. Ahmar Siddiqui, Document Control Officer, Engineering and Analysis Division (4303T), Room 6231S EPA West, U.S. EPA, 1200 Pennsylvania Ave. NW., Washington, DC 20460.

FOR FURTHER INFORMATION CONTACT: Mr. M. Ahmar Siddiqui, Document Control Officer, at (202) 566-1044, or via email at siddiqui.ahmar@epa.gov.

SUPPLEMENTARY INFORMATION: EPA has transferred CBI to various contractors and subcontractors over the history of the effluent guidelines program. EPA determined that this transfer was necessary to enable the contractors and subcontractors to perform their work in supporting EPA in planning, developing, and reviewing effluent guidelines and standards for certain industries.

Today, EPA is giving notice that it is transferring CBI to NEK (located in Allston, MA), a new subcontractor to ERG, which operates under contract number EP-C-12-021. EPA initially announced its intention to transfer CBI to ERG and its subcontractors and consultants on October 5, 2012 (77 FR 60962). The purpose of this transfer is to support technical and engineering analysis support for EPA in its development, review, implementation, and defense of water-related initiatives for a variety of industries.

All EPA contractor, subcontractor, and consultant personnel are bound by the requirements and sanctions contained in their contracts with EPA and in EPA's confidentiality regulations found at 40 CFR Part 2, Subpart B. NEK will adhere to an ERG-approved security plan which describes procedures to protect CBI. NEK will apply the procedures in this plan to CBI previously gathered by EPA and to CBI that may be gathered in the future. The security plan specifies that subcontractor personnel are required to sign non-disclosure agreements and are briefed on appropriate security procedures before they are permitted access to CBI. No person is automatically granted access to CBI: A need to know must exist.

The information that will be transferred to NEK consists of information previously collected by EPA under the authority of section 308 of the CWA to support the development and review of effluent limitations guidelines and standards. In particular, information, including CBI, collected for the planning, development, and review of effluent limitations guidelines and standards for the following industries may be transferred: Airport deicing; aquaculture; centralized waste treatment; coal bed methane; concentrated animal feeding operations; coal mining; construction and development; drinking water treatment; industrial container and drum cleaning; industrial laundries; industrial waste combustors; iron and steel manufacturing; landfills; meat and poultry products; metal finishing; metal products and machinery; nonferrous metals manufacturing; oil and gas extraction (including coalbed methane); ore mining and dressing; organic chemicals, plastics, and synthetic fibers; pesticide chemicals; petroleum refining; pharmaceutical manufacturing; pulp, paper, and paperboard manufacturing; shale gas extraction; steam electric power generation; textile mills; timber products processing; tobacco; and transportation equipment cleaning. Additionally, note that some information being transferred from the pulp, paper, and paperboard industry was collected under the additional authorities of section 114 of the Clean Air Act (CAA) and section 3007 of the Resource Conservation and Recovery Act (RCRA).

EPA also intends to transfer to NEK all information listed in this notice, of the type described above (including CBI) that may be collected in the future under the authority of section 308 of the CWA or voluntarily submitted (e.g., in comments in response to a Federal Register notice), as is necessary to enable NEK to carry out the work required by its subcontract to support EPA's effluent guidelines planning process and the development of effluent limitations guidelines and standards.

Dated: April 23, 2014.
Elizabeth Southerland,
Director, Office of Science and Technology.

[FR Doc. 2014-09988 Filed 5-14-14; 8:45 am]

BILLING CODE 6560-50-P